INTERNATIONAL TRADE COMMISSION

[USITC SE-06-033]

Government in the Sunshine Act Meeting Notice

Agency Holding the Meeting: United States International Trade Commission.

Time and Date: June 1, 2006 at 11 a.m.

Place: Room 101, 500 E Street SW., Washington, DC 20436. Telephone: (202) 205-2000.

Status: Open to the public.

Matters to be Considered: 1. Agenda for future meetings: none.

2. Minutes.

3. Ratification List.

4. Inv. Nos. 731-TA-624 and 625 (Second Review) (Helical Spring Lock Washers from China and Taiwan)—briefing and vote. (The Commission is currently scheduled to transmit its determination and Commissioners' opinions to the Secretary of Commerce on or before June 12, 2006.)

5. Outstanding action jackets: none.

In accordance with Commission policy, subject matter listed above, not disposed of at the scheduled meeting, may be carried over to the agenda of the following meeting.

By order of the Commission.
Issued: May 12, 2006.
Marilyn R. Abbott,
Secretary to the Commission.

[FR Doc. 06-4698 Filed 5-16-06; 2:35 pm]

BILLING CODE 7020-02-P